DEPARTMENT OF HOMELAND SECURITY

National Communications System

[Docket No. NCS-2006-0009]

National Security Telecommunications Advisory Committee

AGENCY: National Communications System, DHS.

ACTION: Notice of Partially Closed Advisory Committee Meeting

SUMMARY: The President's National Security Telecommunications Advisory Committee (NSTAC) will meet in a partially closed session.

DATES: Tuesday, December 19, 2006, from 1 p.m. until 4 p.m.

ADDRESSES: The meeting will take place at the U.S. Chamber of Commerce, 1615 H St. NW., Washington, DC. If you desire to submit comments, they must be submitted by December 12, 2006. Comments must be identified by Docket Number NCS-2006-0009 and may be submitted by one of the following methods:

• Federal eRulemaking Portal: http://www.regulations.gov. Follow the instructions for submitting comments.

• E-mail: NSTAC1@dhs.gov. Include docket number in the subject line of the message.

• Mail: Office of the Manager, National Communications System (N5), Department of Homeland Security, Washington, DC, 20529.

• Fax: 866-466-5370.

Instructions: All submissions received must include the words “Department of Homeland Security” and NCS-2006-0009, the docket number for this action. Comments received will be posted without alteration at www.regulations.gov, including any personal information provided.

Docket: For access to the docket to read background documents or comments received by the NSTAC, go to http://www.regulations.gov.

FOR FURTHER INFORMATION CONTACT: Ms. Kiesha Gebreyes, Chief, Industry Operations Branch at (703) 235-5525, e-mail: Kiesha.Gebreyes@dhs.gov or write the Deputy Manager, National Communications System, Department of Homeland Security, CS&T/NCS/N5.

SUPPLEMENTARY INFORMATION: The NSTAC advises the President on issues and problems related to implementing national security and emergency preparedness telecommunications policy. Notice of this meeting is given under the Federal Advisory Committee Act (FACA), Pub. L. 92-463, as amended (5 U.S.C. App.1 et seq.).

Between 1 p.m. and 3 p.m., the NSTAC will receive comments from government stakeholders, discuss the work of the NSTAC's Emergency Communications and Interoperability Task Force (ECITF), and discuss the work of the Telecommunications and Electric Power Interdependency Task Force (TEPITF). This portion of the meeting will be open to the public.

Between 3 p.m. and 4 p.m., the committee will discuss the Global Infrastructure Resiliency (GIR) Report. This portion of the meeting will be closed to the public.

Basis for Closure: The GIR discussion will likely involve sensitive infrastructure information concerning system threats and explicit physical/cyber vulnerabilities related to current communications capabilities. Public disclosure of such information would heighten awareness of potential vulnerabilities and increase the likelihood of exploitation by terrorists or other motivated adversaries. Pursuant to Section 10(d) of the Federal Advisory Committee Act, Public Law 92-463, as amended (5 U.S.C. App. 1 et seq.), the Department has determined that this discussion will concern matters which, if disclosed, would be likely to frustrate significantly the implementation of a proposed agency action. Accordingly, this portion of the meeting will be closed to the public pursuant to the authority set forth in 5 U.S.C. 552b(c)(9)(B).

Information on Services for Individuals With Disabilities: For information on facilities or services for individuals with disabilities, or to request special assistance at the meeting, contact Kiesha Gebreyes as soon as possible.

Dated: November 20, 2006.
Peter M. Fonash,
Deputy Manager National Communications System.

[FR Doc. E6-20403 Filed 12-1-06; 8:45 am]

BILLING CODE 4410-10-P